ENVIRONMENTAL PROTECTION AGENCY

[FRL-7126-4]

Sole Source Aquifer Determination for Glen Canyon Aquifer System, Moab, Utah

AGENCY: Environmental Protection Agency (EPA).

ACTION: Notice of final determination.

SUMMARY: Pursuant to section 1424(e) of the Safe Drinking Water Act, the Acting Regional Administrator of the U.S. Environmental Protection Agency (EPA) in Region VIII has determined that the Glen Canyon Aquifer System at Moab, Utah and the immediately adjacent recharge area is the sole or principal source of drinking water for the area. The area is located in southeast Utah extending from the City of Moab, southeast, encompassing approximately 76,000 acres in Townships 25 through 28 South and Ranges 21 through 24 East SLB&M. The area is irregularly shaped with maximum dimensions of about 22 miles from southeast to northwest and approximately 9 miles from southwest to northeast. The entire area is within Grand County, Utah. No viable alternative sources of drinking water with sufficient available supply exist within the area for which this application for sole source designation has been submitted. If this aquifer becomes contaminated, a significant hazard to public health would occur.

The boundaries of the designated area have been reviewed and approved by EPA. As a result of this action, federal financially assisted projects constructed in the approximately 119 square mile area mentioned above will be subject to EPA review to ensure that these projects are designed and constructed in a manner which does not create a significant hazard to public health. For the purposes of this designation the Aquifer Service Area and the Project Review Area are the same as the Designated Area.

DATES: This determination shall be promulgated for purposes of judicial review at 1:00 p.m. Mountain Standard Time on January 7, 2002.

ADDRESSEES: The data upon which these findings are based, and a map of the designated area are available to the public and may be inspected during normal business hours at the U.S. Environmental Protection Agency, Region VIII, 999 18th Street, Suite 300, Denver, CO 80202-2466 or the Moab City Library, 25 South 100 East, Moab Utah 84523.

FOR FURTHER INFORMATION CONTACT: William J. Monheiser, Regional Sole Source Aquifer Coordinator, Ground Water Program, 8P-W-GW, USEPA Region VIII, 999 18th Street, Suite 300, Denver, Colorado 80202-2466, Phone: 303.312.6271, Fax: 303.312.7084, E-mail: monheiser.william@epa.gov.

SUPPLEMENTARY INFORMATION: Notice is hereby given that, pursuant to section 1424(e) of the Safe Drinking Water Act, 42 U.S.C. 300f, 300h-3(e), Public Law 93-523 as amended, the Acting Regional Administrator of the U.S. Environmental Protection Agency, Region 8 has determined that the Glen Canyon Aquifer System is the sole or principal source of drinking water for the Moab area of southeast Utah described above. Pursuant to section 1424(e), federal financially assisted projects constructed anywhere in the Sole Source Aquifer area described above will be subject to EPA review.

I. Background

Section 1424(e) of the Safe Drinking Water Act states:

“If the Administrator determines, on his own initiative or upon petition, that an area has an aquifer which is the sole or principal drinking water source for the area and which, if contaminated, would create a significant hazard to public health, he shall publish notice of that determination in the Federal Register. After the publication of any such notice, no commitment for federal financial assistance (through a grant, contract, loan guarantee, or otherwise) may be entered into for any project which the Administrator determines may contaminate such aquifer through a recharge zone so as to create a significant hazard to public health, but a commitment for federal financial assistance may, if authorized under another provision of the law, be entered into to plan or design the project to assure that it will not so contaminate the aquifer.”

Effective March 9, 1987, authority to make a Sole Source Aquifer Designation was delegated to the U.S. EPA Regional Administrators.

On May 7, 2001 a petition was received from the City of Moab, 115 West 200 South, Moab Utah 84532, requesting that EPA designate the ground water resources of the Glen Canyon Aquifer System near the City of Moab as a Sole Source Aquifer. In response to this petition, EPA published a notice of a Public Meeting in the Times-Independent, a newspaper of general circulation in the Moab area. This notice announced receipt of the petition and requested public comment in writing or oral comments at the public meeting held August 14, 2001 and for a 34 day comment period following the meeting. Comments received by mail, telephone, Fax and e-Mail were also accepted. The public comment period extended from August 14, 2001 to September 17, 2001.

Subsequently, EPA determined that the petition is both administratively and technically complete and adequate.

II. Basis for Determination

Among the factors considered by the Regional Administrator for designation of a Sole Source Aquifer under section 1424(e) are: (1) Whether the aquifer is the area's sole or principal source of drinking water, (2) if the designated area has been adequately delineated and, (3) whether contamination of the aquifer would create a significant hazard to public health.

On the basis of information available to EPA, the Regional Administrator has made the following findings of fact, which are the basis for this determination:

1. The Glen Canyon Aquifer System serves as the “sole source” of drinking water for approximately 6000 permanent residents within the City of Moab. Most domestic wells and stock wells in the area derive their water from the shallow valley fill aquifer and are not affected by this action. There is no unappropriated alternative drinking water source or combination of sources which could provide fifty percent or more of the drinking water to the designated area, nor is there any projected future alternative source capable of supplying the area's drinking water needs at an economical cost.

2. Although the Glen Canyon Aquifer System underlies much of southeast Utah, in the Moab area the aquifer is of very high quality, able to be used as a drinking water source with the minimal treatment required by the State of Utah. This constitutes a limited resource in this immediate area that if contaminated would create a significant hazard to public health and result in significant economic, social and environmental costs. Potential sources of contamination include: (1) Petroleum, mineral exploration, and geophysical drilling, (2) poorly designed development (3) accidental spills along roadways, (4) abandoned but unplugged petroleum, mineral and geophysical wells, tunnels and (5) non-sustainable agricultural and forestry practices.

3. The City of Moab's petition and supporting documentation have appropriately delineated the boundaries of the subject aquifer.

III. Description of the Petitioned Aquifer

The designated area of the Glen Canyon Aquifer System encompasses about 76,000 acres in an irregularly shape area approximately 22 miles long by 9 miles wide. Drinking water production is from one developed spring from the Wingate Sandstone and three developed springs and five drilled wells from the Navajo Sandstone. The lower Jurassic Wingate Sandstone, overlain by the lower Jurassic Kayenta Sandstone, overlain by the lower Jurassic Navajo Sandstone comprise the approximately 800 feet thick Glen Canyon Aquifer System. Water production is primarily due to fracture flow. Combined production of the water system can be greater than 4,775 gallons per minute with 3,000,000 gallons of storage. The boundaries of the aquifer were determined by hydrogeologic mapping, which is the area interpreted to contribute water to the springs and well. The aquifer is exposed at the surface within its service area and considered to be moderately to very vulnerable.

IV. Information Utilized in Determination

The information utilized in this determination includes the petition from the City of Moab, review of available literature, and the results of ground water investigations conducted by the State on the ground water resources of the area. These data are available to the public and may be inspected during normal business hours at EPA Region VIII, 999 18th Street, Suite 300, Denver, Colorado 80202-2466 or at the Moab City Library, 25 South 100 East, Moab, Utah, 84532.

V. Project Review

EPA, Region VIII, will work with the Federal Agencies that may, in the future, provide financial assistance to projects in the designated area. Interagency procedures will be developed in which EPA will be notified of proposed funding commitments for projects which could contaminate the aquifer. EPA will evaluate such projects and, where necessary, conduct an in-depth review, including soliciting public comments where appropriate. Should EPA determine that a project may contaminate the aquifer, so as to create a significant hazard to public health, no commitment for federal assistance may be entered into. However, a commitment for federal assistance may, if authorized under another provision of law, be entered into to plan or design the project to assure that it will not contaminate the aquifer.

Although the project review process cannot be delegated to state or local agencies, the EPA will rely upon any existing or future state and local control mechanisms, to the maximum extent possible, in protecting the ground-water quality of the aquifer. Included in the review of any federal financially assisted project will be coordination with local agencies. Their comments will be given full consideration, and the Federal review process will attempt to complement and support state and local ground water quality protection mechanisms.

VI. Public Comments

In response to the Public Notice and Public Meeting, a detailed discussion of all questions, a transcript of the public meeting as well as all written comments can be found in the Administrative Record and may be inspected during normal business hours at EPA Region VIII, 999 18th Street, Suite 300, Denver, Colorado 80202-2466. Participants at the Public Meeting voiced unanimous support for designation. Of the 52 written comments received all were supportive of designation except for one. All comments are addressed in EPA's Responsiveness Summary, which is part of the Administrative record.

No additional data were presented during the public comment period regarding aquifer characteristics, boundary delineation or potential errors of fact presented in the petition.

VII. Economic and Regulatory Impact

Pursuant to the provisions of the Regulatory Flexibility Act (RFA), 5 U.S.C. 605(b), I hereby certify that this designation will not have a significant impact on a substantial number of small entities. For purposes of this Certification, “small entity” shall have the same meaning as given in section 601 of the RFA. This action is only applicable to projects with the potential to impact the Glen Canyon Aquifer System Sole Source Aquifer as designated.

The only affected entities will be those businesses, organizations or governmental jurisdictions that request federal financial assistance for projects which have the potential for contaminating the Sole Source Aquifer so as to create a significant hazard to public health. EPA does not expect to be reviewing small isolated commitments of financial assistance on an individual basis, unless a cumulative impact on the aquifer is anticipated; accordingly, the number of affected small entities will be minimal.

For those small entities which are subject to review, the impact of today's action will not be significant. Many projects subject to this review will be preceded by a ground water impact assessment required pursuant to other federal laws, such as the National Environmental Policy Act (NEPA) as amended 42 U.S.C. 4321, et seq. Integration of those related review procedures with sole source aquifer review will allow EPA and other federal agencies to avoid delay or duplication of effort in approving financial assistance, thus minimizing any adverse effects on those small entities which are affected. Finally, today's action does not prevent grants of federal financial assistance which may be available to any affected small entity in order to pay for the redesign of the project to assure protection of the aquifer.

Under Executive Order 12866, EPA must judge whether a regulation is “major” and therefore subject to the requirement of a Regulatory Impact Analysis. This regulation is not major because it will not have an annual effect of $100 million or more on the economy, will not cause any major increase in costs or prices, and will not have significant adverse effects on competition, employment, investment, productivity, innovation, or the ability of United States enterprises to compete in domestic or export markets. Today's action only affects the Glen Canyon Aquifer System in Grand County, Utah. It provides an additional review of ground water protection measures, incorporating state and local measures whenever possible, for only those projects which request federal financial assistance.

VIII. Summary

This determination affects only the Glen Canyon Aquifer System, located in Moab Utah. As a result of this designation all federal financially assisted projects proposed in the delineated area will be subject to EPA review to ensure that they do not create significant hazard to public health,

Jack W. McGraw,
Acting Regional Administrator, Region VIII.

[FR Doc. 02-297 Filed 1-4-02; 8:45 am]

BILLING CODE 6560-50-P